DEPARTMENT OF ENERGY

Federal Energy Regulatory Commission

[Project No. 13347-000]

Wells Rural Electric Company; Notice of Application for Preliminary Permit Accepted for Filing and Soliciting Comments, Motions To Intervene, and Protests

February 25, 2009.

On December 18, 2008, Wells Rural Electric Company filed an application, pursuant to section 4(f) of the Federal Power Act (FPA), to study the proposed Bishop Creek Dam Water Power Project. The proposed project would be located on Bishop Creek or Bishop Creek Reservoir in Elko, Nevada. The existing Bishop Dam is federally owned and/or operated by the Bureau of Land Management.

The proposed project would consist of: (1) A new dam of 79-foot high and crest of 408.7-foot long; (2) a reservoir holding 17,167-acre-foot of water at normal pool elevation at 5,923 feet; (3) a new 4 mile-long, 25-kilovolt transmission line; (4) a powerhouse containing one generating unit with one megawatts (MW) capacity; and (5) appurtenant facilities. The proposed project would have the potential for annual generation of 8.766 gigawatt-hours (GWh).

Applicant Contact: Mr. Dan Dyer or Andrew Hammond, Dyer Engineering Consultants Inc., 5442 Longley Lane, Suite A, Reno, NV 89511, (775) 852-1440.

FERC Contact: Jake Tung, (202) 502-8757.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13347) in the docket number field to access the document. For assistance, call toll-free 1-866-208-3372.

Kimberly D. Bose,
Secretary.

[FR Doc. E9-4705 Filed 3-4-09; 8:45 am]

BILLING CODE 6717-01-P